DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: National Practitioner Data Bank for Adverse Information on Physicians and Other Health Care Practitioners: Regulations and Forms (OMB No. 0915-0126)—Revision

The National Practitioner Data Bank (NPDB) was established through Title IV of Pub. L. 99-660, the Health Care Quality Improvement Act of 1986, as amended. Final regulations governing the NPDB are codified at 45 CFR part 60. Responsibility for NPDB implementation and operation resides in the Bureau of Health Professions, Health Resources and Services Administration, U.S. Department of Health and Human Services (DHHS). The NPDB began operation on September 1, 1990.

The intent of Title IV of Pub. L. 99-660 is to improve the quality of health care by encouraging hospitals, State licensing boards, professional societies, and other entities providing health care services, to identify and discipline those who engage in unprofessional behavior; and to restrict the ability of incompetent physicians, dentists, and other health care practitioners to move from State to State without disclosure of practitioner previous damaging or incompetent performance.

The NPDB acts primarily as a flagging system; its principal purpose is to facilitate comprehensive review of practitioners' professional credentials and background. Information on medical malpractice payments, adverse licensure actions, adverse clinical privileging actions, adverse professional society actions, and Medicare/Medicaid exclusions is collected from, and disseminated to, eligible entities. It is intended that NPDB information should be considered with other relevant information in evaluating a practitioner's credentials.

This request is for a revision of reporting and querying forms previously approved on April 30, 1999. The reporting forms and the request for information forms (query forms) must be accessed, completed, and submitted to the NPDB electronically through the NPDB Web site at http://www.npdb-hipdb.com. All reporting and querying is performed through this secure website. Due to overlap in requirements for the Healthcare Integrity and Protection Data Bank (HIPDB), some of the NPDB's burden has been subsumed under the HIPDB.

Estimates of burden are as follows:

Regulation citation | Number of respondents | Responses per respondent | Hours per responses (in minutes) | Total burden hours
60.6(a), Errors & Omissions | 400 | 4.625 | 15 | 462.5
60.6(b), Revisions to Actions | 100 | 1.5 | 30 | 75
60.7(b), Medical Malpractice Payment Report | 660 | 28.03 | 45 | 13,875
60.8(b), Adverse Action Reports—State Boards | ¹ 0 | 0 | 0 | 0
60.9(a)3, Adverse Action Clinical Privileges & Professional Society | 1,000 | 1.2 | 45 | 900
Requests for Hearings by Entities | 1 | 1 | 480 | 8
60.10(a)(1), Queries by Hospital-Practitioner Applications | 6,000 | 240,000 | 5 | 20,000
60.10(a)(2), (Queries by Hospitals-Two Yr. Cycle | 6,000 | 960,000 | 5 | 80,000
60.11(a)(1), Disclosure to Hospitals | ² 0 | 0 | 0 | 0
60.11(a)(2), Disclosure to Practitioners (Self Query) | ³ 0 | 0 | 0 | 0
60.11(a)(3), Disclosure to Licensure Boards | 125 | 15,000 | 5 | 1,250
60.11(a)(4), Queries by Non-Hospital Health Care Entities | 4,000 | 2,200,000 | 5 | 183,333
60.11(a)(5), Queries by Plaintiffs' Attorneys | 5 | 5 | 30 | 2.5
60.11(a)(6), Queries by Non-Hospital Health Care Entities-Peer Review | ⁴ 0 | 0 | 0 | 0
60.11(a)(7), Requests by Researchers for Aggregated Data | 100 | 100 | 30 | 50
60.14(b), Practitioner Places a Report in Disputed Status | 1,000 | 1,000 | 15 | 250
60.14(b), Practitioner Statement | 2,325 | 2,325 | 60 | 2,325
60.14(b), Practitioner Requests for Secretarial Review | 110 | 110 | 480 | 880
60.3, Entity Registration-Initial | 500 | 500 | 60 | 500
60.3, Entity Registration-Update | 1,000 | 1,000 | 5 | 83
60.11(a), Authorized Agent Designation-Initial | 500 | 500 | 15 | 125
60.11(a), Authorized Agent-Update | 50 | 50 | 5 | 4.17
60.12(c), Account Discrepancy Report | 300 | 300 | 5 | 75
60.12(c), Electronic Funds Transfer Authorization | 400 | 400 | 15 | 100
60.3, Entity Reactivation | 100 | 100 | 60 | 100
Total |  |  |  | 304,398
¹ Included in estimate for reporting adverse licensure actions to the HIPDB in 45 CFR part 61.
² Included in estimates for 60.10(a)(1).
³ Included in estimate for self queries to the HIPDB in 45 CFR part 61.
⁴ Included in estimate for hospital queries under 60.11(a)(4).

Written comments and recommendations concerning the proposed information collection should be sent within 30 days of this notice to: John Morrall, Human Resources and Housing Branch, Office of Management and Budget, New Executive Office Building, Room 10235, Washington, DC 20503.

Dated: July 23, 2002.
Jane M. Harrison,
Director, Division of Policy Review and Coordination.

[FR Doc. 02-19059 Filed 7-25-02; 8:45 am]

BILLING CODE 4165-15-P